DEPARTMENT OF DEFENSE

Office of the Secretary

[Docket ID: DoD-2024-HA-0076]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 9, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: DHA Equal Employment Opportunity (EEO) Complaints Program; DHA Form 28, DHA Form 30, EEO Contact Request E-Form; OMB Control Number 0720-EEOC.

Needs and Uses: Individuals have the right to file an EEO complaint with the DHA if they believe their employment, privileges, benefits, and/or working conditions have been adversely impacted due to their protected activity (race, color, etc.), resulting in disparate treatment or impact(s). Individuals wishing to initiate the EEO Complaint Process must provide the necessary information to avoid processing delay(s). Information collected from individuals throughout the EEO Complaint Process and Reasonable Accommodation Process will be used (a) for processing of complaints of discrimination because of race, color, national origin, religion, sex, age, physical and/or mental disability, genetic information, or reprisal; (b) for processing of reasonable accommodation requests; (c) as a data source for complaint and reasonable accommodation information used for production of summary descriptive statistics and analytical studies of complaints and reasonable accommodation processing and resolution efforts; (d) to respond to general requests for information under the Freedom of Information Act; (e) to respond to requests from legitimate outside individuals or agencies (Congress, White House, Equal Employment Opportunity Commission (EEOC)) regarding the status of an EEO complaint, appeal, or reasonable accommodation request; or (f) to adjudicate an EEO complaint or appeal.

Affected Public: Individuals or households.

Annual Burden Hours: 425.8 hours.

Number of Respondents: 511.

Responses per Respondent: 1.

Annual Responses: 511.

Average Burden per Response: 50 minutes.

Frequency: As required.

Dated: July 2, 2024.
Aaron T. Siegel,
Alternate OSD Federal Register Liaison Officer, Department of Defense.

[FR Doc. 2024-15042 Filed 7-8-24; 8:45 am]

BILLING CODE 6001-FR-P